DEPARTMENT OF ENERGY

Federal Energy Regulatory Commission

Notice of Third Workshop, Better Stakeholder Involvement: How To Make It Work

October 29, 2002.

The Office of Energy Projects will host the third workshop in its second phase of its “Better Stakeholder Involvement—How to Make it Work” series in Lowell, Massachusetts, Thursday, November 21, 2002. We are inviting interstate natural gas companies; Federal, state and local agencies; landowners and other non-governmental organizations interested in developing strategies for involving people in the pre-filing planning process for natural gas pipelines.

We will continue to base our discussions on the ideas outlined in staff's December 2001 report, “Ideas for Better Stakeholder Involvement In The Interstate Natural Gas Pipeline Planning Pre-Filing Process.”¹

¹ The staff report can be downloaded from the FERC web-site at www.ferc.gov or requested by e-mail at: gasoutreach@ferc.gov.

In the Lowell meeting, among other things, we will focus on interagency communications and agreements, alternative dispute resolution, and benefits and opportunities for local stakeholders in the pre-filing arena.

The workshop will be held at the Doubletree Riverfront Hotel, 50 Warren Street, Lowell, Massachusetts 01852, from 9 a.m. to 4:30 p.m. The phone number at the hotel is 978-452-1200. A preliminary agenda and directions to the hotel are enclosed. You may also go to the hotel's website for more detailed directions at www.doubletree.com.

If you plan to attend or have suggestions for the agenda, please respond by Monday, November 18, 2002 via facsimile to Roberta Coulter at 202/208-0353, or you may email our team at: gasoutreach@ferc.gov. Please include in the response the names, addresses, and telephone numbers of all attendees from your organization.

To help us enhance our panel discussions, please consider, and forward to us, issues and/or questions you would like to have addressed at the meetings. If you have any questions, you may contact any of the staff listed below: Richard Hoffmann 202/502-8066, Lauren O'Donnell 202/502-8325, Jeff Shenot 202/502-8329, Howard Wheeler 202/502-8688.

J. Mark Robinson,
Director, Office of Energy Projects.

Agenda

Federal Energy Regulatory Commission

Better Stakeholder Involvement: How To Make It Work

Lowell Workshop, November 21, 2002

9 a.m. Welcome, Introduction and Objectives

9:15 a.m. FERC NEPA Pre-filing Process Presentation/Discussion

10:15 a.m. Elements of a Public Participation Plan

11 a.m. Break

11:15 a.m. Benefits and Opportunities for Local Stakeholders

12:15 p.m. Lunch (on your own)

1:30 p.m. FERC's Alternative Dispute Resolution Process and the Millennium Settlement—Lessons Learned

3 p.m. Break

3:15 p.m. A Tale of Two Companies: A Citizen Perspective

4 p.m. Summary Discussion, Overall Comments, Next Steps

4:30 p.m. Adjourn

BILLING CODE 6717-01-P

[FR Doc. 02-27983 Filed 11-1-02; 8:45 am]

BILLING CODE 6717-01-C